DEPARTMENT OF HEALTH AND HUMAN SERVICES

Centers for Disease Control and Prevention

Health Disparities Subcommittee, Advisory Committee to the Director (ACD), Centers for Disease Control and Prevention (CDC): Teleconference

In accordance with section 10(a)(2) of the Federal Advisory Committee Act (Pub. L. 92-463), CDC announces the following meeting for the aforementioned subcommittee.

Name: Health Disparities Subcommittee, Advisory Committee to the Director, CDC.

Time and Date: 9 a.m.-11 a.m., August 17, 2009.

Place: This meeting will be held by conference call. The call in number is (877) 394-7734 and enter passcode 9363147.

Status: Open to the public, limited only by the availability of telephone ports.

Purpose: The subcommittee will provide counsel to the ACD, CDC on CDC's efforts to address health disparities in achieving the agency's overarching health impact goals.

Matters to be Discussed: Agenda items will include a policy brief on health equity and social determinants of health; collaboration and update with the ACD Ethics Subcommittee; and collaboration with the CDC Health Equity Workgroup.

Agenda items are subject to change as priorities dictate.

Contact Person for More Information: Walter W. Williams, M.D., M.P.H., Designated Federal Officer, Health Disparities Subcommittee, Advisory Committee to the Director, CDC, 1600 Clifton Road, NE., M/S E-67, Atlanta, Georgia 30333. Telephone 404/498-2310, e-mail: WWilliams@cdc.gov.

The Director, Management Analysis and Services Office, has been delegated the authority to sign Federal Register notices pertaining to announcements of meetings and other committee management activities, for both the Centers for Disease Control and Prevention and the Agency for Toxic Substances and Disease Registry.

Dated: July 17, 2009.
Elaine L. Baker,
Director, Management Analysis and Services Office, Centers for Disease Control and Prevention.

[FR Doc. E9-17674 Filed 7-23-09; 8:45 am]

BILLING CODE 4163-18-P